ENVIRONMENTAL PROTECTION AGENCY

[EPA-HQ-OAR-2022-0027; FRL-10609-01-OMS]

Agency Information Collection Activities; Submission to the Office of Management and Budget for Review and Approval; Comment Request; NESHAP for Stationary Combustion Turbines (Renewal)

AGENCY: Environmental Protection Agency (EPA).

ACTION: Notice.

SUMMARY: The Environmental Protection Agency (EPA) has submitted an information collection request (ICR), NESHAP for Stationary Combustion Turbines (EPA ICR Number 1967.09, OMB Control Number 2060-0540), to the Office of Management and Budget (OMB) for review and approval in accordance with the Paperwork Reduction Act. This is a proposed extension of the ICR, which is currently approved through January 31, 2023. Public comments were previously requested, via the Federal Register, on July 22, 2022 during a 60-day comment period. This notice allows for an additional 30 days for public comments.

DATES: Comments may be submitted on or before February 27, 2023.

ADDRESSES: Submit your comments, referencing Docket ID Number EPA-HQ-OAR-2022-0027, to EPA online using https://www.regulations.gov/ (our preferred method), or by email to docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through January 31, 2023. An agency may neither conduct nor sponsor, and a person is not required to respond to, a collection of information unless it displays a currently valid OMB control number.

Public comments were previously requested, via the Federal Register (87 FR 43843), on July 22, 2022 during a 60-day comment period. This notice allows for an additional 30 days for public comments. A fuller description of the ICR is given below, including its estimated burden and cost to the public. Supporting documents which explain in detail the information that the EPA will be collecting are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Stationary Combustion Turbines (40 CFR part 63, subpart YYYY) were proposed on January 14, 2003; promulgated on March 5, 2004; and amended on: April 20, 2006; November 20, 2019; and March 9, 2020. The regulations apply to sources that commenced either construction or reconstruction after January 14, 2003. On August 18, 2004, these standards were amended to stay the effectiveness for the two gas-fired stationary combustion turbine subcategories (i.e., lean pre-mix gas-fired turbines and diffusion flame gas-fired turbines). Amendments to the NESHAP were finalized on March 9, 2020, as a result of a residual risk and technology review (RTR) required under the Clean Air Act (CAA). Additionally, the EPA removed the stay of the effectiveness of the standards for new lean premix and diffusion flame gas-fired turbines that was promulgated in 2004 on March 9, 2022. New facilities include those that commenced either construction, or modification or reconstruction after January 14, 2003. This information is being collected to assure compliance with 40 CFR part 63, subpart YYYY.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: 5900-600.

Respondents/affected entities: Owners or operators of stationary combustion turbines.

Respondent's obligation to respond: Mandatory (40 CFR part 63, subpart YYYY).

Estimated number of respondents: 280 (total).

Frequency of response: Initially, semiannually, annually.

Total estimated burden: 8,490 hours (per year). Burden is defined at 5 CFR 1320.3(b).

Total estimated cost: $1,060,000 (per year), which includes $37,100 in annualized capital/startup and/or operation & maintenance costs.

Changes in the Estimates: The increase in burden from the most-recently approved ICR is due to adjustments. The change in burden for the new and existing facilities is due primarily to implementation of prior amendments to the regulation. An amendment finalized in March 2022 removed the stay of effectiveness for standards implemented in 2004. The removed stay affected standards of new lean premix and diffusion flame gas-fired turbines. This led to an adjustment increase in burden from the most-recently approved ICR since there is an increase in the number of existing sources required to meet the notification, recordkeeping, and reporting requirements over the next three years. During the development of rule amendments in 2020 and 2022, EPA collaborated with industry to investigate an estimate of existing sources. The data collected by EPA indicated an additional 158 sources were identified compared to the previous ICR. As a result, we identified 246 existing facilities subject to Subpart YYYY. This ICR assumes a continuous growth rate of 8 new gas-fired turbines per year based on the industry growth rate in the currently-approved ICR and information collected during the 2020 and 2022 rulemakings.

Courtney Kerwin,
Director, Regulatory Support Division.

[FR Doc. 2023-01546 Filed 1-25-23; 8:45 am]

BILLING CODE 6560-50-P